NATIONAL ARCHIVES AND RECORDS ADMINISTRATION

36 CFR Part 1258

RIN 3095-AA87

NARA Reproduction Fee Schedule

AGENCY: National Archives and Records Administration (NARA).

ACTION: Notice of proposed rulemaking.

SUMMARY: NARA proposes to revise its schedule of fees for reproduction of records and other materials in the custody of the Archivist of the United States. This proposed rule covers reproduction of Federal records created by other agencies that are in the National Archives of the United States, donated historical materials, Presidential records, Nixon Presidential historical materials, certain Federal agency records in NARA Federal records centers, and records filed with the Office of the Federal Register. The fees are being changed to reflect current costs of providing the reproductions. This rule will affect members of the public and Federal agencies who order reproductions from NARA.

DATES: Comments must be received by June 26, 2000.

ADDRESSES: Submit comments to the Regulation Comment Desk (NPLN), Room 4100, National Archives at College Park, 8601 Adelphi Road, College Park, MD 20740-6001. Comments may also be faxed to (301)713-7270.

FOR FURTHER INFORMATION CONTACT: Nancy Allard on (301)713-7360.

SUPPLEMENTARY INFORMATION:

Background

The fees for reproduction of records in 36 CFR Part 1258 are set under the Archivist's authority in 44 U.S.C. 2116(c). That statute requires that, to the extent possible, NARA recover the actual cost of making copies of records and other materials transferred to the custody of the Archivist of the United States. In determining these costs, NARA has considered only the order handling, materials and equipment, shipping, and the labor costs directly associated with making the reproduction.

NARA last revised the reproduction fee schedule in 1997 on the basis of a cost study conducted in 1995 and 1996. Since 1997, NARA costs have increased because of higher materials and shipping costs and mandatory cost of living adjustments to staff salaries. Despite these increases, the proposed fees for many products fulfilled by mail order will remain the same or increase only slightly. The following sections of this SUPPLEMENTARY INFORMATION discuss where we are proposing significant changes in fees.

Fees for Self-service Copies

Fees for self-service paper-to-paper and microfilm-to-paper copies, which represent approximately 46 percent of our reproduction volume, must increase by 5 cents each to recover NARA's costs. This is the first such increase in 10 years. The fee for self-service paper-to-paper copies will be 15 cents per copy. The fee for self-service microfilm-to-paper copies will be 30 cents per copy.

Electrostatic and Microfilm Orders at Washington, DC, Area Facilities

We are discontinuing “block” pricing for standard electrostatic copy and camera microfilm image reproduction orders at Washington, DC, area facilities. With this pricing, the customer paid one fee for the initial block of copies and a separate fee for each additional block of copies. Unit pricing (per page) continued to be used at all regional facilities and Presidential libraries. This pricing structure, imposed with the July 1997 revision of the fee schedule, was intended to reduce the amount of time spent by archival staff estimating the number of pages to be copied when preparing quotes for researchers and to reduce the amount of time spent by the Trust Fund staff in processing refunds for overestimated copy counts and in pursuing debt collection for underestimated copy counts. However, after years of unit pricing, our customers found block pricing to be confusing. Staff members found that they were now dependent upon charts to calculate quotes and the block sizes were not large enough to significantly reduce the need for accurate page counts. Finally, NARA's new order fulfillment system will not support block pricing without extensive, and expensive, customization that would be passed on to customers.

We propose to revert to unit pricing for these products nationwide. The proposed unit pricing for both electrostatic copies (50 cents per copy) and camera microfilm images (70 cents per image) is not changed from the 1997 unit cost on which the block prices were based. For camera microfilm images, there will be no significant change in cost. Most camera microfilm customers will pay the same or slightly less than they pay with block pricing.

The proposed pricing for electrostatic copies signifies no change in fee for 90 percent of the copies sold nationwide. Customers who ordered copies from the two NARA archival facilities in the Washington, DC, area (10 percent of the total copies sold nationwide) are the only customers affected by the proposed return to unit pricing. Under block pricing, some orders had a discounted per unit cost because of the way that the blocks were priced. Generally, only customers with larger orders (more than 40 copies) will have an increase in the cost of their orders.

Fixed-fee Orders

NARA uses specialized forms (NATF-80 series of forms) to handle requests for reproductions of certain types of records with high reference volume. Each of these forms is used as part of a two-step process: (1) To search for the requested file and, if found, make copies; and (2) to bill the requesting researcher for the copies of the records when the search is successful. Approximately 125,000 of these requests are submitted to NARA each year, of which 76,000 result in reproductions.

We are making three changes in this fixed fee order program. First, we propose to discontinue the practice of selecting documents and providing only partial files. Now all fixed fee orders will include the entire file. The most dramatic impact of this change will be that people who order military pension files will receive much larger full files that average 105 pages instead of a selection of 14-20 pages. When searches based on the current NATF Form 80, Order for Copies of Veterans Records, are successful, NARA's practice has been to select and reproduce up to 20 pages which would be of most use for genealogical research from the file. In order to obtain a copy of the full file, the customer has had to prepare and send a separate request for the remaining documents in the file, which was charged at the per-page price. While full bounty land warrant application records and military service records generally fall within the 20-page limit, the average military pension file is 105 pages.

Our intent is to provide all customers with access to the complete record responsive to their request. The selection process is not consistent with NARA's overall reference practices, and misleads some researchers that the selected pages constitute the entire file. Increasing numbers of genealogical researchers have recognized that the selected documents do not meet their needs. Receipt of copies of selected records often leads to requests for the remaining pages in a file. This results in many researchers submitting two separate requests, doubling both the researcher's and NARA's time spent on the reference transaction and increasing potential damage to the fragile records through the more frequent handling.

The new procedure will immediately give the researcher all the information about the soldier or sailor contained in the file. While the 14 to 20 pages that were normally selected contained much useful biographical information (such as general statement of service, the names of wives and children, birth dates, and death dates), they by no means tell the full story of a pensioner's case. Medical information about continuing ailments resulting from war wounds or illnesses and prolonged battles to obtain benefits are also of great interest to family historians. These additional records round out the portrait of the veteran and his family.

Second, we are replacing the NATF Form 80, Order for Copies of Veterans Records, with two separate new forms to facilitate more efficient service. NATF Form 85 (Order for Copies of Federal Pension or Bounty Land Warrant Applications) and NATF Form 86 (Order for Copies of Military Service Records) will replace NATF Form 80. This change will also help researchers to understand the distinctions among the three types of records. The military service records (ordered on NATF Form 86), the bounty land warrant application files (NATF Form 85), and the pension files (also on NATF Form 85) share some of the same basic facts about the person. But military service files rarely contain personal information other than a physical description of the soldier and/or medical information. They document the soldier's movements during the war. Bounty land warrant applications and pension files contain basically the same type of information because they were applications for the same type of benefit. The soldier or widow provided a statement of service that would qualify them for the bounty or the pension. The claim may or may not include information about when the soldier was married, the names and ages of children, etc. However, the pension files are on average larger since they often cover a longer period of government payments and they often have more supporting documents over time. In addition, the bounty land warrant application files start after the Revolutionary War and end in 1855. Bounty land applications for the Revolutionary War are combined in the pension files and do not exist as a separate series. The average Revolutionary War pension file is 40 pages, including the bounty land warrant application. Unlike the other pension files, Revolutionary War pension files are only available on microfilm, which contributes to a higher labor cost for reproduction. Each type of file is different because it was created for a different purpose, at a different time, and in response to different laws with different requirements.

In the third change, the fees for fixed fee orders will increase for the first time since 1991. In past fee schedules, NARA has set a uniform fee for the NATF Forms 80, 81, 83 and 84 that represents a blending of the actual costs for providing those orders. In this fee schedule we propose to set the fees for each type of order separately to reflect the cost of each individual type of order. We specifically invite your comments on this change.

By pricing each type of file separately, the ship passenger arrival records (NATF Form 81) and the full bounty land warrant application files (NATF Form 85) are $17.25, while the land records on the NATF Form 84 are $17.75. Federal Census orders (NATF Form 82) and Eastern Cherokee applications to the Court of Claims (NATF Form 83) are $17.50. The fee for copies of full military service records (NATF Form 86) will be $17.00 and the fee for copies of full federal pension files (NATF Form 85) will be $40.

If we set blended fees, the fee for orders on NATF Forms 81, 82, 83, 84, and 86 would be $17.50. The fee for orders for full bounty land warrants on NATF Form 85 would also be $17.50. The fee for orders for federal pension files on NATF Form 85 would be $40.00 under either the blended pricing or the individual pricing approach.

Finally, we propose to make this fee schedule effective September 1, 2000, as we indicate in proposed § 1258.16.

Other Changes to Part 1258

We have rewritten Part 1258 in plain language in accordance with the Presidential Memorandum of June 1, 1998, Plain Language in Government Writing. No substantive changes have been made to NARA's current policies in proposed § § 1258.1, 1258.2, 1258.6, 1258.8, 1258.10, and 1258.14, although existing § § 1258.4 and 1258.6 have been combined in proposed § 1258.6.

Paperwork Reduction Act

NATF Forms 81 through 86 in this proposed rule have been approved by the Office of Management and Budget under the Paperwork Reduction Act and bear current approval numbers on the face of the forms.

This proposed rule is a significant regulatory action for purposes of Executive Order 12866 of September 30, 1993, and has been reviewed by the Office of Management and Budget. This proposed rule does not have federalism implications. As required by the Regulatory Flexibility Act, it is hereby certified that this rule will not have a significant impact on a substantial number of small entities because the affected public is primarily individuals.

List of Subjects in 36 CFR Part 1258

Archives and records.

For the reasons set forth in the preamble, NARA proposes to revise Part 1258 of title 36, Code of Federal Regulations, to read as follows:

PART 1258—FEES

Sec.
1258.1 What is the authority for this part?
1258.2 What does the NARA reproduction fee schedule cover?
1258.4 What reproductions are not covered by the NARA fee schedule?
1258.6 When does NARA provide reproductions without charge?
1258.8 Who pays to have a copy negative made?
1258.10 What is NARA's mail order policy?
1258.12 NARA reproduction fee schedule.
1258.14 What is NARA's payment policy?
1258.16 Effective date.

Authority: 44 U.S.C. 2116(c) and 2307.

§ 1258.1 What is the authority for this part?

(a) 44 U.S.C. 2116(c) authorizes NARA to charge a fee for making or authenticating copies or reproductions of materials transferred to the Archivist's custody.

(b) 44 U.S.C. 2307 authorizes the Archivist of the United States, as Chairman of the National Archives Trust Fund Board, to prepare and publish special works and collections of sources and to prepare, duplicate, edit, and release historical photographic materials and sound recordings and sell those publications and releases at a price that will cover their cost, plus 10 percent.

§ 1258.2 What does the NARA reproduction fee schedule cover?

The NARA reproduction fee schedule in § 1258.12 covers reproduction of:

(a) NARA archival records, donated historical materials, Presidential records, and Nixon Presidential historical materials except as otherwise provided in § § 1258.4 and 1258.6. Some reproduction services listed in § 1258.12 may not be available at all NARA facilities;

(b) Other Federal records stored in NARA Federal records centers, except when NARA and the agency that transferred the records have agreed to apply that agency's fee schedule; and

(c) Records filed with the Office of the Federal Register.

§ 1258.4 What reproductions are not covered by the NARA fee schedule?

The following categories are not covered by the NARA fee schedule in § 1258.12.

(a) Still photography, including aerial film, and oversize maps and drawings. Information on the availability and prices of reproductions of records held in the Special Media Archives Services Division (NWCS), 8601 Adelphi Rd., College Park, MD 20740-6001, and in the Presidential libraries and regional archives (see 36 CFR 1253.3 and 36 CFR 1253.7 for addresses) may be obtained from the unit which has the original records.

(b) Motion picture, sound recording, and video holdings of the National Archives and Presidential libraries. Information on the availability of and prices for reproduction of these materials are available from the Special Media Archives Services Division (NWCS), 8601 Adelphi Rd., Room 3340, College Park, MD 20740-6001, or from the Presidential library which has such materials (see 36 CFR 1253.3 for addresses).

(c) Electronic records. Information on the availability of and prices for duplication are available from the Electronic and Special Media Records Services Division (NWME), 8601 Adelphi Rd., Room 5320, College Park, MD 20740-6001, or from the Presidential library which has such materials (see 36 CFR 1253.3 for addresses).

(d) Reproduction of the following types of records using the specified order form:

Type of record and order form | Price
(1) Passenger arrival lists (order form NATF Form 81) | $17.25
(2) Federal Census requests (order form NATF Form 82) | 17.50
(3) Eastern Cherokee applications to the Court of Claims (order form NATF Form 83) | 17.50
(4) Land entry records (order form NATF 84) | 17.75
(5) Bounty land warrant application files (order form NATF Form 85) | 17.25
(6) Pension files more than 75 years old (order form NATF Form 85) | 40
(7) Military service files more than 75 years old (order form NATF Form 86) | 17

(e) National Archives Trust Fund Board publications, including microfilm publications. Prices are available from the Customer Service Center (NWCC2), 8601 Adelphi Rd., Room 1000, College Park, MD 20740-6001.

(f) Reproductions of NARA operational records made in response to FOIA requests under part 1250 of this chapter.

(g) Orders for expedited service (“rush” orders) for reproduction of still pictures and motion picture and video recordings among the holdings of a Presidential library. Orders may be accepted on an expedited basis by the library when the library determines that sufficient personnel are available to handle such orders or that the NARA contractor making the reproduction can provide the service. Rush orders are subject to a surcharge to cover the additional cost of providing expedited service.

(h) Orders requiring additional expense to meet unusual customer specifications such as the use of special techniques to make a photographic copy more legible than the original document, or unusual format or background requirement for negative microfilm. Fees for these orders are computed for each order.

§ 1258.6 When does NARA provide reproductions without charge?

NARA does not charge a fee for reproduction or certification in the instances described in this section, if the reproduction is not a color reproduction. Color reproductions are furnished to the public and the Government only on a fee basis.

(a) When NARA furnishes copies of documents to other elements of the Federal Government. However, a fee may be charged if the appropriate director determines that the service cannot be performed without reimbursement;

(b) When NARA wishes to disseminate information about its activities to the general public through press, radio, television, and newsreel representatives;

(c) When the reproduction is to furnish the donor of a document or other gift with a copy of the original;

(d) When the reproduction is for individuals or associations having official voluntary or cooperative relations with NARA in its work;

(e) When the reproduction is for a foreign, State, or local government or an international agency and furnishing it without charge is an appropriate courtesy;

(f) For records of other Federal agencies in NARA Federal records centers only:

(1) When furnishing the service free conforms to generally established business custom, such as furnishing personal reference data to prospective employers of former Government employees;

(2) When the reproduction of not more than one copy of the document is required to obtain from the Government financial benefits to which the requesting person may be entitled (e.g., veterans or their dependents, employees with workmen's compensation claims, or persons insured by the Government);

(3) When the reproduction of not more than one copy of a hearing or other formal proceeding involving security requirements for Federal employment is requested by a person directly concerned in the hearing or proceeding; and

(4) When the reproduction of not more than one copy of a document is for a person who has been required to furnish a personal document to the Government (e.g., a birth certificate required to be given to an agency where the original cannot be returned to the individual).

§ 1258.8 Who pays to have a copy negative made?

Requests for photographs of materials for which no copy negative is on file are handled as follows:

(a) The customer is charged to make the copy negative, except in cases where NARA wishes to retain the negative for its own use.

(b) When no fee is charged the negative becomes the property of NARA. When a fee is charged the negative becomes the property of the customer.

§ 1258.10 What is NARA's mail order policy?

(a) There is a minimum fee of $10.00 per order for reproductions that are sent by mail to the customer.

(b) Orders to addresses in the United States are sent either first class or UPS depending on the weight of the order and availability of UPS service. When a customer requests special mailing services (such as Express Mail or registered mail) and/or shipment to a foreign address, the cost of the special service and/or additional postage for foreign mail is added to the cost of the reproductions.

§ 1258.12 NARA fee schedule.

(a) Certification: $6.

(b) Electrostatic copying (in order to preserve certain records which are in poor physical condition, NARA may restrict customers to photographic or microfilm copies instead of electrostatic copies):

Service | Fee
(1) Paper-to-paper copies (up to and including 11 in. by 17 in.) made by the customer on a NARA self-service copier | $0.15 per copy.
(2) Paper-to-paper copies (up to and including 11 in. by 17 in.) made by NARA staff | $0.50 per copy.
(3) Oversized electrostatic copies | $2.70 per linear foot.
(4) Electrostatic copies (22 in. by 34 in.) | $2.70 per copy.
(5) Microfilm or microfiche to paper copies made by the customer on a NARA self-service copier | $0.30 per copy.
(6) Microfilm or microfiche to paper copies made by NARA staff | $1.90 per copy.

(c) Original negative microfilm (paper-to-microfilm): $0.70 per image.

(d) Diazo microfiche duplication: $2.50 per fiche.

(e) Self-service video copying in the Motion Picture, Sound and Video Research Room:

Service | Fee
(1) Initial 90-min use of video copying station with 120-minute videocassette | $9.75.
(2) Additional 90-minute use of video copying station with no videocassette | $6.25.
(3) Blank 120-minute VHS videocassette | $3.50.

(f) Self-service Polaroid prints: $5.75 per print.

(g) Unlisted processes: For reproductions not covered by this fee schedule, see also § 1258.4. Fees for other reproduction processes are computed upon request.

§ 1258.14 What is NARA's payment policy?

(a) Form of payment. Fees may be paid in cash, by check or money order made payable to the National Archives Trust Fund, or by selected credit cards. Payments from outside the United States must be made by international money order payable in U.S. dollars or a check drawn on a U.S. bank.

(b) Timing. Fees must be paid in advance except when the appropriate director approves a request for handling them on an account receivable basis. Purchasers with special billing requirements must state them when placing orders and must complete any special forms for NARA approval in advance.

§ 1258.16 Effective date.

The fees in this part are effective on September 1, 2000.

Dated: February 28, 2000.
John W. Carlin,
Archivist of the United States.

[FR Doc. 00-10248 Filed 4-24-00; 8:45 am]

BILLING CODE 7515-01-P